DEPARTMENT OF THE INTERIOR

Fish and Wildlife Service

Bear Butte National Wildlife Refuge; Correction

AGENCY: Fish and Wildlife Service, Interior.

ACTION: Notice of availability of draft comprehensive conservation plan; request for comments; correction.

Correction

In notice document E7-1988, appearing on page 5990, in the issue of Thursday, February 8, 2007, make the following correction:

On page 5990, in the first column, the third and fourth paragraphs should read:

ADDRESSES: A copy of the document may be obtained by writing to Michael Spratt, Planning Team Leader, U.S. Fish and Wildlife Service, Division of Refuge Planning, Box 25486, Denver, Colorado 80225-0486; or electronically to Michael_Spratt@fws.gov or downloaded from http://mountain-prairie.fws.gov/planning. Please provide written comments to the address above.

FOR FURTHER INFORMATION CONTACT: Michael Spratt at 303-236-4366; fax: 303-236-4792; or e-mail: Michael_Spratt@fws.gov.

Dated: February 8, 2007.
Richard A. Coleman,
Assistant Regional Director, Region 6.

[FR Doc. E7-2514 Filed 2-13-07; 8:45 am]

BILLING CODE 4310-55-P